DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Participant Feedback on Training Under the Cooperative Agreement for Mental Health Care Provider Education in HIV/AIDS Program (OMB No. 0930-0195)—Revision

The Substance Abuse and Mental Health Services Administration's (SAMHSA) Center for Mental Health Services (CMHS) intends to continue to conduct a multi-site assessment for the Mental Health Care Provider Education in HIV/AIDS Program. The education programs funded under this cooperative agreement are designed to disseminate knowledge of the psychological and neuropsychiatric sequelae of HIV/AIDS to both traditional (e.g., psychiatrists, psychologists, nurses, primary care physicians, medical students, and social workers) and non-traditional (e.g., clergy, and alternative health care workers) first-line providers of mental health services, in particular to providers in minority communities.

The multi-site assessment is designed to assess the effectiveness of particular training curricula, document the integrity of training delivery formats, and assess the effectiveness of the various training delivery formats. Analyses will assist CMHS in documenting the numbers and types of traditional and non-traditional mental health providers accessing training; the content, nature and types of training participants receive; and the extent to which trainees experience knowledge, skill and attitude gains/changes as a result of training attendance. The multi-site data collection design uses a two-tiered data collection and analytic strategy to collect information on (1) the organization and delivery of training, and (2) the impact of training on participants' knowledge, skills and abilities.

Minor changes to the feedback form instruments are requested based on based on a review and assessment of participant feedback form data collected over the past two years of the contract. CMHS identified some outdated and rarely-used response options for all participant response forms and the session reporting form and removed these items from the individual data collection tools. Table 1 shows the response options removed from the previous iterations of the MHCPE participant feedback forms and session reporting form.

Table 1—Changes to Participant Feedback Forms
Type of feedback form | Question No. | Change(s) | Reason for change
All Participant Feedback Forms (General Education, Neuropsychiatric, Adherence, Ethics) | Q7 | Removal of response option “other” | Rarely/never used response option(s).
| Q8, Q9A | Removal of response option “Dentist/Dental Assistant” | Rarely/never used response option(s).
Session Reporting Form | Q6 | Removal of the following response options: —State/Local Department of Public Welfare —HMO/Managed Care Organization —Migrant Health Center —Other MHCPE Program —State/Local Department of Corrections | Rarely/never used response option(s).
| Q11 | Removal of response option “Audio tapes” | Outdated response option.

Information about the organization and delivery of training will be collected from trainers and staff who are funded by these cooperative agreements/contracts, hence there is no respondent burden. All training participants will be asked to complete a brief feedback form at the end of the training session. CMHS anticipates funding up to 10 education sites for the Mental Health Care Provider Education in HIV/AIDS Program. The annual burden estimates for this activity are shown below in Table 2.

Table 2—Annual Burden Estimate
Annualized Burden Estimates and Costs
Mental Health Care Provider Education in HIV/AIDS Program (10 sites)
Form | No. of respondents | Responses per respondent | Total responses | Hours per response | Total hour burden
All Sessions
One form per session completed by program staff/trainer
Session Report Form | 600 | 1 | 600 | 0.08 | 48
Participant Feedback Form (General Education) | 5,000 | 1 | 5,000 | 0.167 | 835
Neuropsychiatric Participant Feedback Form | 4,000 | 1 | 4,000 | 0.167 | 668
Adherence Participant Feedback Form | 1,000 | 1 | 1,000 | 0.167 | 167
Ethics Participant Feedback Form | 2,000 | 1 | 2,000 | 0.167 | 125
Total | 12,600 |  | 12,600 |  | 1,843

Send comments to Summer King, SAMHSA Reports Clearance Officer, Room 2-1057, One Choke Cherry Road, Rockville, MD 20857 or email her a copy at summer.king@samhsa.hhs.gov. Written comments should be received by February 24, 2014.

Summer King,
Statistician.

[FR Doc. 2013-30706 Filed 12-24-13; 8:45 am]

BILLING CODE 4162-20-P